DEPARTMENT OF COMMERCE

National Oceanic and Atmospheric Administration

RIN 0648-XA742

Endangered and Threatened Species; Take of Anadromous Fish

AGENCY: National Marine Fisheries Service (NMFS), National Oceanic and Atmospheric Administration (NOAA), Commerce.

ACTION: Issuance of two scientific research permits.

SUMMARY: Notice is hereby given that NMFS has issued Permit 15824 to Santa Cruz County Environmental Health Services and Permit 16318 to Hagar Environmental Science.

ADDRESSES: The approved application for each permit is available on the Applications and Permits for Protected Species (APPS), https://apps.nmfs.noaa.gov Web site by searching the permit number within the Search Database page. The applications, issued permits and supporting documents are also available upon written request or by appointment: Protected Resources Division, NMFS, 777 Sonoma Avenue, Room 325, Santa Rosa, CA 95404 (ph: (707) 575-6097, fax: (707) 578-3435).

FOR FURTHER INFORMATION CONTACT: Jeffrey Jahn at 707-575-6097, or e-mail: Jeffrey.Jahn@noaa.gov.

SUPPLEMENTARY INFORMATION:

Authority

The issuance of permits and permit modifications, as required by the Endangered Species Act of 1973 (16 U.S.C. 1531-1543) (ESA), is based on a finding that such permits/modifications: (1) Are applied for in good faith; (2) would not operate to the disadvantage of the listed species which are the subject of the permits; and (3) are consistent with the purposes and policies set forth in section 2 of the ESA. Authority to take listed species is subject to conditions set forth in the permits. Permits and modifications are issued in accordance with and are subject to the ESA and NMFS regulations (50 CFR parts 222-226) governing listed fish and wildlife permits.

Species Covered in This Notice

This notice is relevant to federally endangered Central California Coast coho salmon (Oncorhyncus kisutch), threatened Central California Coast steelhead (O. mykiss), and threatened South-Central California Coast steelhead (O. mykiss).

Permits Issued

Permit 15824

A notice of the receipt of an application for a scientific research permit (15824) was published in the Federal Register on June 1, 2011 (76 FR 31590). Permit 15824 was issued to the County of Santa Cruz, Environmental Health Services on August 30, 2011.

Permit 15824 authorizes snorkel surveys, capture by backpack electrofishing and seining, handling (measuring), scale sampling, marking (fin-clipping), and release of juvenile Central California Coast (CCC) coho salmon, Central California Coast (CCC) steelhead, and South-California Coast (S-CCC) steelhead, henceforth referred to as ESA-listed salmonids. Permit 15824 authorizes unintentional lethal take of: Juvenile ESA-listed salmonids not to exceed one percent of the total number of fish captured. Permit 15824 does not authorize any non-lethal or lethal take of adult ESA-listed salmonids.

Permit 15824 is for research to be conducted in the San Lorenzo River, Aptos Creek, Soquel Creek, and Corralitos Creek in Santa Cruz County, California. The main purpose of the project is to track habitat conditions and site densities of juvenile salmonids in these watersheds. Permit 15824 expires on December 31, 2016.

Permit 16318

A notice of the receipt of an application for a scientific research permit renewal (16318) was published in the Federal Register on June 1, 2011 (76 FR 31590). Permit 16318 was issued to Hagar Environmental Science (HES) on August 30, 2011.

Permit 16318 authorizes HES to take juvenile ESA-listed salmonids associated with three research projects consisting of lagoon surveys and stream surveys in Santa Cruz, Monterey, and San Luis Obispo counties in central California. The data from lagoon and stream surveys will be used to track salmonid spawning and rearing conditions in lagoons and streams, prioritize restoration and conservation efforts, and inform land and water use decisions.

Under Permit 16318, authorized research methods include snorkel surveys, electrofishing, scale sampling, passive integrated transponder (PIT) tagging, anesthetizing, and handling of fish. Permit 16318 does not authorize any intentional lethal take of ESA-listed salmonids. Permit 16318 authorizes unintentional lethal take of juvenile ESA-listed salmonids associated with research activities not to exceed one percent of the annual total expected take for each species associated with electrofishing and not to exceed two percent of the annual total expected take associated with beach seining and marking/tagging procedures. Permit 16318 expires on December 31, 2016.

Dated: September 29, 2011.
Angela Somma,
Chief, Endangered Species Division, Office of Protected Resources, National Marine Fisheries Service.

[FR Doc. 2011-25558 Filed 10-3-11; 8:45 am]

BILLING CODE 3510-22-P